DEPARTMENT OF HEALTH AND HUMAN SERVICES

National Institutes of Health

Submission for OMB Review; 30-Day Comment Request International Research Fellowship Award Program of the National Institute on Drug Abuse (NIDA)

AGENCY: National Institutes of Health, HHS.

ACTION: Notice.

SUMMARY: In compliance with the Paperwork Reduction Act of 1995, the National Institute on Drug Abuse (NIDA), National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: To request more information on the proposed project or to obtain a copy of the data collection plans and instruments, contact: Dr. Lindsey Friend, Research Training Program Officer, NIDA International Program, National Institute on Drug Abuse, National Institutes of Health, 3WFN MSC 6024, 301 North Stonestreet Avenue, Bethesda, Maryland 20892, or call non-toll-free number (301) 402-1428 or email your request, including your address to: lindsey.friend@nih.gov.

SUPPLEMENTARY INFORMATION: This proposed information collection was previously published in the Federal Register on February 14, 2022, page 8267 (87 FR 8267) and allowed 60 days for public comment. No public comments were received. The purpose of this notice is to allow an additional 30 days for public comment.

The National Institute on Drug Abuse (NIDA), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: The International Research Fellowship Award Program of the National Institute on Drug Abuse (NIDA), 0925-0733, expiration date 07/31/2022, EXTENSION, National Institute on Drug Abuse (NIDA), National Institutes of Health (NIH).

Need And Use of Information Collection: These programs offer grants and traineeships necessary for growing the biomedical researcher workforce, and the diversity in this workforce. The application forms collect information of applicants for selecting those that would benefit most effectively from the programs. NIDA is requesting approval from OMB for application forms to be used by these programs that will recruit pre-college through post-doctoral underrepresented individuals and individuals of special populations into the research programs of the Institute for research training and research development, for forging mentor/mentee relationships and networking between newly funded underrepresented researchers and experienced investigators funded by NIDA; and for a fellowship program to train new researchers, and support experienced researchers of other nations, in research to advance the biomedical and behavioral science of drug abuse and addiction while fostering multinational research in this disease area. The application forms will be web-based.

OMB approval is requested for 3 years. There are no costs to respondents other than their time. The total annualized burden hours are 33.

Estimated Annualized Burden Hours
Type of respondent | Number of respondents | Number of responses per respondent | Average time per response (in hours) | Total annual burden hour
Applicant Scientists | 25 | 1 | 1 | 25
Scientists | 25 | 1 | 20/60 | 8
Total |  | 50 |  | 33

Dated:April 20, 2022
Lanette A. Palmquist,
Project Clearance Liaison, National Institute on Drug Abuse, National Institutes of Health.

[FR Doc. 2022-08779 Filed 4-22-22; 8:45 am]

BILLING CODE 4140-01-P